DEPARTMENT OF ENERGY

Federal Energy Regulatory Commission

[Docket No. RP04-376-000]

National Fuel Gas Supply Corporation; Notice of Tariff Filing

July 8, 2004.

Take notice that on July 1, 2004, National Fuel Gas Supply Corporation (National Fuel) tendered for filing as part of its FERC Gas Tariff, Fourth Revised Volume No. 1, the tariff sheets listed on Appendix A to its filing, to be effective August 1, 2004.

National Fuel states that the purpose of this filing is to discontinue and to remove from its tariff the Gas Research Institute (GRI) RD&D funding surcharge, in accordance with the 1998 Settlement Agreement approved by the Commission in Docket No. RP97-149-003, et al. National Fuel states that the General Terms and Conditions section 24, Revenue Flow Back has been removed in its entirety because this provision expired by its terms on March 31, 2000.

National Fuel states that copies of this filing were served upon its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1562 Filed 7-13-04; 8:45 am]

BILLING CODE 6717-01-P